DEPARTMENT OF HOMELAND SECURITY

Coast Guard

33 CFR Part 117

[USCG-2008-0049]

RIN 1625-AA09

Drawbridge Operation Regulations; Gulf Intracoastal Waterway (GIWW), mile 49.8, near Houma, Lafourche Parish, LA

AGENCY: Coast Guard, DHS.

ACTION: Notice of proposed rulemaking.

SUMMARY: The Coast Guard proposes to change the regulation governing the operation of the SR 316 Blue Bayou Pontoon Bridge across the Gulf Intracoastal Waterway, mile 49.8, near Houma, Lafourche Parish, Louisiana. Currently the bridge opens on signal, but due to high vehicular traffic and school bus traffic Lafourche Parish requested this change. The proposed rule will require the draw of the bridge to open on signal except during the regular school year on Monday through Friday, except Federal holidays, from 7 a.m. to 8:30 a.m., from 2 p.m. to 4 p.m., and from 4:30 p.m. to 5:30 p.m.

DATES: Comments and related material must reach the Coast Guard on or before May 12, 2008.

ADDRESSES: You may submit comments identified by Coast Guard docket number USCG-2008-0049 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue SE., Washington, DC 20590-0001.

(3) Hand delivery: Room W12-140 on the Ground Floor of the West Building, 1200 New Jersey Avenue SE., Washington, DC 20590, between 9 a.m. and 5 p.m., Monday through Friday, except Federal holidays. The telephone number is 202-366-9329.

(4) Fax: 202-493-2251.

FOR FURTHER INFORMATION CONTACT: If you have questions on this proposed rule, call Bart Marcules, Bridge Administration Branch, telephone (504) 671-2128.

If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking USCG-2008-0049, indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8 ½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time, click on “Search for Dockets,” and enter the docket number for this rulemaking USCG-2008-0049 in the Docket ID box, and click enter. You may also visit the Docket Management Facility in Room W12-140 on the ground floor of the DOT West Building, 1200 New Jersey Avenue SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We are not at this time planning to hold a public meeting. But you may submit a request for one to the Docket Management Facility at the address under ADDRESSES explaining why one would be beneficial. If we determine that one would aid this rulemaking, we will hold one at a time and place announced by a later notice in the Federal Register.

Background and Purpose

The Lafourche Parish Council has requested that a regulation be placed on the SR 316 Blue Bayou Pontoon Bridge across the Gulf Intracoastal Waterway (GIWW), at mile 49.8, near Houma, Louisiana. This bridge currently opens on signal as required by 33 CFR 117.5. Due to a high volume of vehicular traffic on SR 316 and length of time to open and close the SR 316 Blue Bayou Pontoon Bridge, a bridge opening can cause a substantial delay in transit time for school buses having to cross the bridge. To minimize the transit time of school children, Lafourche Parish requested closure periods around the scheduled school bus route times to allow the buses to cross the bridge without delay caused by a bridge opening. Currently, based on twelve months of bridge logs and a two week vehicular traffic count during the school year, the 7 a.m. to 8:30 a.m. period has an average of 87 cars to 3.4 vessels, the 2 p.m. to 4 p.m. period has an average of 112 cars to 6.3 vessels, and the 4:30 p.m. to 5:30 p.m. period has an average of 140 cars to 3.2 vessels. Thus, a substantial delay can occur to the school buses that have to cross this bridge during their routes.

A Test Deviation, USCG-2008-0048, is being issued in conjunction with this Notice of Proposed Rulemaking to test the proposed schedule and to obtain data and public comments. The test period will be in effect from March 27, 2008 until April 28, 2008. The Coast Guard will review the logs of the drawbridge and evaluate public comments from this Notice of Proposed Rulemaking and the above referenced Temporary Deviation to determine if a permanent special drawbridge operating regulation is warranted.

The Test Deviation shall allow the draw to open on signal; except that, the draw need not be opened from 7 a.m. to 8:30 a.m., from 2 p.m. to 4 p.m., and from 4:30 p.m. to 5:30 p.m., Monday through Friday except Federal holidays.

Discussion of Proposed Rule

The proposed rule will allow the SR 316 Blue Bayou Pontoon Bridge to not have to open from 7 a.m. to 8:30 a.m., 2 p.m. to 4 p.m., and 4:30 p.m. to 5:30 p.m. This departure from the current regulation requiring the bridge to open on signal is based on bus route times. The proposed regulation will allow the school buses that transit on SR 316 to deliver their passengers in a timely manner without delays.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

We expect the economic impact of this proposed rule to be so minimal that a full Regulatory Evaluation is unnecessary.

The proposed rule will only allow the bridge to not have to open during three short periods during the day with open on signal periods between each closure period. Given the high vehicular traffic to low vessel count—the 7 a.m. to 8:30 a.m. period has an average of 87 cars to 3.4 vessels, the 2 p.m. to 4 p.m. period has an average of 112 cars to 6.3 vessels, and the 4:30 p.m. to 5:30 p.m. period has an average of 140 cars to 3.2 vessels—we expect very few vessels will be impacted or backed up, and those few vessels should be able to schedule their transit time during an open on signal period.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect a limited number of small entities. These entities include tug boat and trawler operators. This proposed rule will have no significant impact on any small entities because the proposed regulation will only provide for three short closure periods with open on signal periods between each closure period. Thus, small entities may schedule to transit through this bridge during the open on signal periods and avoid any delay.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Bart Marcules, Bridge Administration Branch, telephone (504) 671-2128. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA)(42 U.S.C. 4321-4370f), and have made a preliminary determination that this action is not likely to have a significant effect on the human environment because it simply promulgates the operating regulations or procedures for drawbridges. We seek any comments or information that may lead to the discovery of a significant environmental impact from this proposed rule.

List of Subjects in 33 CFR Part 117 Bridges

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.451, redesignate paragraphs (c), (d), and (e) as paragraphs (d), (e), and (f), respectively, and add new paragraph (c) to read as follows:

§ 117.451 Gulf Intracoastal Waterway

* * * * *

(c) The draw of the SR 316 Bayou Blue Bridge, mile 49.8, near Houma shall open on signal; except that, from August 15 to May 31 (the school year), the draw need not be opened from 7 a.m. to 8:30 a.m., from 2 p.m. to 4 p.m., and from 4:30 p.m. to 5:30 p.m., Monday through Friday except Federal holidays.

* * * * *

Dated: February 21, 2008.
J.H. Korn,
Captain, U.S. Coast Guard, Commander, 8th Coast Guard District, Acting.

[FR Doc. E8-4940 Filed 3-11-08; 8:45 am]

BILLING CODE 4910-15-P